DEPARTMENT OF AGRICULTURE

Agricultural Marketing Service

[Doc. No. AMS-LPS-16-0016]

Request for Extension and Revision of a Currently Approved Information Collection for the Federal Seed Act Program

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget (OMB), for an extension and revision to the currently approved information collection of the Federal Seed Act Labeling and Enforcement.

DATES: Comments must be received by June 27, 2016.

ADDRESSES: Comments should either be submitted electronically at www.regulations.gov, or to Ernest L. Allen, Director, Seed Regulatory and Testing Division (SRTD), Livestock, Poultry, and Seed Program, AMS, USDA, 801 Summit Crossing Place, Suite C, Gastonia, NC 28054-2193; or by facsimile to (704) 852-4109. All comments should reference docket number AMS-LPS-16-0016 and note the date and the page number of this issue of the Federal Register. All comments received will be posted without change, including any personal information provided, online at http://www.regulations.gov and will be made available for public inspection at the above physical address during regular business hours.

FOR FUTHER INFORMATION CONTACT: Ernest L. Allen, SRTD, Livestock, Poultry, and Seed Program, AMS, USDA; Telephone: (704) 810-8871, or Email: Ernest.Allen@ams.usda.gov.

SUPPLEMENTARY INFORMATION: Title: Federal Seed Act Program.

OMB Number: 0581-0026.

Expiration Date of Approval: August 31, 2016.

Type of Request: Request for extension of and revision of currently approved information collection.

Abstract: This information collection and these recordkeeping requirements are necessary to conduct the Federal Seed Act (FSA) (7 U.S.C. 1551 et seq.) program with respect to certain testing, labeling, and recordkeeping requirements for agricultural and vegetable seeds in interstate commerce. Regulations under the FSA are contained in 7 CFR part 201.

The FSA, Title II, is a truth-in-labeling law that regulates agricultural and vegetable planting seed in interstate commerce. Seed subject to the FSA must be labeled with certain quality information and Title II requires that information to be truthful. The FSA prohibits the interstate shipment of falsely advertised seed and seed containing noxious-weed seeds that are prohibited from sale in the State into which the seed is being shipped.

No unique forms are required for this information collection. The FSA requires seed in interstate commerce to be tested and labeled. Once seed enters a State, it must comply with the testing and labeling requirements of that State's seed law. The testing and labeling required by FSA nearly always satisfies the State's testing and labeling requirements. The receiving, sales, cleaning, testing, and labeling records required by FSA are also records that the shipper would normally keep in good business practice.

The information in this collection is the minimum information necessary to effectively carry out the enforcement of FSA. With the exception of the requirements for entering a new variety into a State seed certification program (set forth separately below), the information collection is entirely recordkeeping rather than reporting.

Seed Testing, Labeling, and Recordkeeping

Estimate of Burden: Public reporting burden for this collection of information is estimated to average 2.69 hours per response.

Respondents: Interstate shippers and labelers of seed.

Estimated Number of Respondents: 3,157.

Estimated Number of Responses per Respondent: 3.25.

Estimated Total Annual Responses: 10,260.

Estimated Total Annual Burden on Respondents: 27,600 hours.

Eligibility Requirements for Certification of New Varieties and Recordkeeping

Estimate of Burden: Public reporting burden for this collection of information (eligibility for certification of new varieties) is estimated to average 2.42 hours per response.

Respondents: Entities seeking to enter new varieties into State seed certification programs.

Estimated Number of Respondents: 88.

Estimated Number of Responses per Respondent: 9.

Estimated Total Annual Responses: 792.

Estimated Total Annual Burden on Respondents: 1,917 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: April 20, 2016.
Elanor Starmer,
Administrator, Agricultural Marketing Service.

[FR Doc. 2016-09607 Filed 4-25-16; 8:45 am]

BILLING CODE 3410-02-P